DEPARTMENT OF THE TREASURY

Community Development Financial Institutions Fund

Proposed Collection; Comment Request

ACTION: Notice and request for comments.

SUMMARY: The Department of the Treasury, as part of its continuing effort to reduce paperwork and respondent burden, invites the general public and other Federal agencies to comment on proposed and/or continuing information collections, as required by the Paperwork Reduction Act of 1995, Public Law 104-13 (44 U.S.C. 3506(c)(2)(A)). Currently, the Community Development Financial Institutions Fund (the Fund) within the Department of the Treasury is soliciting comments concerning the Presidential Awards for Excellence in Microenterprise Development (“Microenterprise”) Program.

DATES: Written comments should be received on or before April 9, 2001 to be assured of consideration.

ADDRESSES: Direct all comments to Margaret Nilson, Community Development Financial Institutions Fund, U.S. Department of the Treasury, 601 13th Street, NW., Suite 200 South, Washington, DC 20005, Fax Number (202) 622-7754.

FOR FURTHER INFORMATION CONTACT: Requests for additional information or copies of the form(s) and instructions should be directed to the Community Development Financial Institutions Fund, U.S. Department of the Treasury, 601 13th Street, NW., Suite 200 South, Washington, DC 20005, or call (202) 622-8662.

SUPPLEMENTARY INFORMATION: Title: Presidential Awards for Excellence in Microenterprise Development Program.

OMB Number: 1559-0007.

Abstract: The Microenterprise Program was created as one of the commitments made by the United States at the United Nations Fourth World Conference on Women held in Beijing, China in September 1995. As a key development finance initiative of the Clinton Administration, the Community Development Financial Institutions Fund was selected to administer the program. By recognizing outstanding microenterprise development and support organizations, the Microenterprise Program's mission is to advance an understanding of “best practices” in the field of microenterprise development and bring wider public attention to the important successes of microenterprise development in the United States. The awards are non-monetary awards that are made annually.

Current Actions: The Fund is in the process of making revisions to its application, in order to begin the second round of the Microenterprise Program.

Type of Review: Reinstatement with change.

Affected Public: Microenterprise organizations and organizations that provide support to microenterprise organizations.

Estimated Number of Respondents: 80.

Estimated Annual Time Per Respondent: 35 hours.

Estimated Total Annual Burden Hours: 2,800 hours.

Requests for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 4703, 4718; chapter X, Pub.L. 104-19, 109 Stat. 237 (12 U.S.C. 4703 note).

Dated: January 31, 2001.
Jeffrey C. Berg,
Acting Director, Community Development Financial Institutions Fund.

[FR Doc. 01-3039 Filed 2-7-01; 8:45 am]

BILLING CODE 4810-70-P